DEPARTMENT OF VETERANS AFFAIRS

Research Advisory Committee on Gulf War Veterans' Illnesses; Notice of Meeting

The Department of Veterans Affairs (VA) gives notice under Public Law 92-463 (Federal Advisory Committee Act) that the Research Advisory Committee on Gulf War Veterans' Illnesses will meet on January 7-8, 2014. The meeting will be held in room 230, 810 Vermont Avenue, Washington, DC, at the Department of Veterans Affairs. The meeting will start at 8:00 a.m. each day and will adjourn at 5:30 p.m. on January 7 and at 12:30 p.m. on January 8. All sessions will be open to the public.

The purpose of the Committee is to provide advice and make recommendations to the Secretary of Veterans Affairs on proposed research studies, research plans, and research strategies relating to the health consequences of military service in the Southwest Asia theater of operations during the Gulf War.

The Committee will review VA program activities related to Gulf War Veterans' illnesses and updates on relevant scientific research published since the last Committee meeting. The research presentations on January 7 will involve gender differences related to Gulf War Veterans' illnesses and treatments guided by systems biology. There will also be Committee training and updates on the Department of Defense and VA Gulf War research initiatives. A Committee report and other Committee business will be discussed on both days.

The meeting will include time reserved for public comments on both days. A sign-up sheet for 5-minute comments will be available at the meeting. Individuals who speak are invited to submit a 1-2 page summary of their comments at the time of the meeting for inclusion in the official meeting record. Members of the public may also submit written statements for the Committee's review to Dr. Roberta White at rwhite@bu.edu.

Because the meeting is being held in a government building, a photo I.D. must be presented at the Guard's Desk as part of the clearance process. Therefore, any person intending to attend should allow an additional 15 minutes before the meeting begins. Any member of the public seeking additional information should contact Dr. Roberta White, Scientific Director, at (617) 638-4620 or Dr. Victor Kalasinsky, Designated Federal Officer, at (202) 443-5682.

Dated: December 17, 2013.
Jeffrey M. Martin,
Office Manager, Regulation Policy and Management, Office of the General Counsel.

[FR Doc. 2013-30342 Filed 12-19-13; 8:45 am]

BILLING CODE 8320-01-P